DEPARTMENT OF ENERGY

Federal Energy Regulatory Commission

[Project No. 2331-083]

Notice of Application Accepted for Filing, Soliciting Comments, Motions To Intervene, and Protests: Duke Energy Carolinas, LLC

Take notice that the following hydroelectric application has been filed with the Federal Energy Regulatory Commission and is available for public inspection:

a. Type of Application: Non-Project Use Application.

b. Project No: 2331-083.

c. Date Filed: May 25, 2018.

d. Applicant: Duke Energy Carolinas, LLC (licensee).

e. Name of Project: Ninety-Nine Islands Hydroelectric Project.

f. Location: The project is located on the Broad River in Cherokee County South Carolina.

g. Filed Pursuant to: Federal Power Act, 16 U.S.C. 791a-825r.

h. Applicant Contact: Jeff Lineberger, Director, Duke Energy Carolinas, LLC, 526 S. Church Street—Mail Stop EC12Y, Charlotte, NC 28202, Jeff.Lineberger@duke-energy.com.

i. FERC Contact: Michael Calloway at 202-502-8041, or michael.calloway@ferc.gov.

j. Deadline for filing comments, motions to intervene, and protests is 30 days from the issuance of this notice by the Commission. The Commission strongly encourages electronic filing. Please file motions to intervene, protests, and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2331-083.

k. Description of Request: The licensee requests Commission approval to allow Thomas Sand Company, Inc. to utilize 33.51 acres of project lands and waters in the upper part of the project reservoir for mining and processing sand. The mining facility has the capacity to withdraw 2.88 million gallons of water per day for processing sand even though it does not achieve this amount daily in practice. The water is returned to the river after processing. The mine has extracted 42,000 tons of sand per year on average since operations began. The licensee proposes that the Thomas Sand Mine will operate under the conditions of South Carolina Department of Health and Environmental Control (South Carolina DHEC) Section 401 Water Quality Certification P/N SAC 2017-01073, South Carolina DHEC Mining Permit No. 0869, and National Pollutant Discharge Permit for Discharges Associated with Nonmetal Mineral Mining Facilities Permit No. SCG730627.

l. Locations of the Application: A copy of the application is available for inspection and reproduction at the Commission's Public Reference Room, located at 888 First Street NE, Room 2A, Washington, DC 20426, or by calling 202-502-8371. This filing may also be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 866-208-3676 or email FERCOnlineSupport@ferc.gov, for TTY, call 202-502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title COMMENTS; PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the non-project use application. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: June 13, 2018.
Kimberly D. Bose,
Secretary.

[FR Doc. 2018-13208 Filed 6-19-18; 8:45 am]

BILLING CODE 6717-01-P